DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: Licensing information and copies of the patent applications listed below may be obtained by communicating with the indicated licensing contact at the Technology Transfer and Intellectual Property Office, National Institute of Allergy and Infectious Diseases, 5601 Fishers Lane, Rockville, MD 20852; tel. 301-496-2644. A signed Confidential Disclosure Agreement will be required to receive copies of unpublished patent applications.

SUPPLEMENTARY INFORMATION: Technology description follows.

N6, A Novel, Broad, Highly Potent HIV-Specific Antibody

Description of Technology

The N6 antibody has evolved a unique mode of binding that depends less on a variable area of the HIV envelope known as the V5 region and focuses more on conserved regions, which change relatively little among HIV strains. This allows N6 to tolerate changes in the HIV envelope, including the attachment of sugars in the V5 region, a major mechanism by which HIV develops resistance to other VRC01-class antibodies. N6 was shown in pre-clinical studies to neutralize approximately 98 percent of HIV isolates tested. The studies also demonstrate that N6 neutralizes approximately 80 percent of HIV isolates which were resistant to other antibodies of the same class, and does so very potently. Its breadth and potency makes N6 a highly desirable candidate for development in therapeutic or prophylactic strategies.

This technology is available for licensing for commercial development in accordance with 35 U.S.C. 209 and 37 CFR part 404, as well as for further development and evaluation under a research collaboration.

Potential Commercial Applications

• HIV therapeutic

• HIV prophylactic

Competitive Advantages

• Neutralized 98 percent of HIV isolates tested.

• Neutralized 80 percent of HIV isolates which were resistant to other antibodies of the same class, and does so very potently.

Development Stage: Pre-Clinical.

Inventors: Mark Connors, Jinghe Huang, Byong Ha Kang, John Mascola, Elise Ishida, Tongqing Zhou, Peter Kwong, Anqi Zheng, all of NIAID.

Publications: Huang, Jinghe, et al. “Identification of a CD4-binding-site antibody to HIV that evolved near-pan neutralization breadth.” Immunity 45.5 (2016): 1108-1121.

Intellectual Property: HHS Reference No. E-131-2015 et seq.—US provisional application 62/136,228, US provisional application 62/250,378, and PCT application PCT/US2016/023145.

Licensing Contact: Chris Kornak, 240-627-3705, chris.kornak@nih.gov.

Collaborative Research Opportunity: The Technology Transfer and Intellectual Property Office (TTIPO) is seeking parties interested in collaborative research to further co-develop this technology. For collaboration opportunities, please contact Chris Kornak, 240-627-3705, chris.kornak@nih.gov.

Dated: March 3, 2017.
Suzanne Frisbie,
Deputy Director, Technology Transfer and Intellectual Property Office, National Institute of Allergy and Infectious Diseases.

[FR Doc. 2017-04834 Filed 3-10-17; 8:45 am]

BILLING CODE 4140-01-P